SECURITIES AND EXCHANGE COMMISSION

[SEC File No. 270-563, OMB Control No. 3235-0656]

Submission for OMB Review; Comment Request; Extension: Rule 17g-7

Upon Written Request, Copies Available From: Securities and Exchange Commission, Office of FOIA Services, 100 F Street NE, Washington, DC 20549-2736

Notice is hereby given that pursuant to the Paperwork Reduction Act of 1995 (44 U.S.C. 3501 et seq.), the Securities and Exchange Commission (“Commission”) is soliciting comments on the collection of information summarized below. The Commission plans to submit an extension for this current collection of information to the Office of Management and Budget for approval.

Rule 17g-7 (17 CFR 240.17g-7) requires each nationally recognized statistical rating organization (“NRSROs”) to publish certain items, including a form containing specified information, when taking a rating action with respect to a credit rating ¹ and to disclose rating histories for free on an easily accessible portion of its corporate internet website.² There are currently 10 NRSROs registered with the Commission, and it is estimated that the NRSROs will take collectively approximately 1,908,530 rating actions per year.

¹ See 240.17g-7(a).

² See 240.17g-7(b).

Based on Commission staff's experience, it is estimated that the total annual hour burden to comply with Rule 17g-7 will be 641,673 hours. The Commission further estimates that this annual hour burden will result in a total annual cost of $238,688,856, reflecting the cost of preparing the form required to be published by Rule 17g-7 and standardizing and tailoring certain required disclosures, and the cost of maintaining a database of rating histories to comply with Rule 17g-7.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent within 30 days of publication of this notice by September 13, 2024 to (i) www.reginfo.gov/public/do/PRAMain and (ii) Austin Gerig, Director/Chief Data Officer, Securities and Exchange Commission, c/o Oluwaseun Ajayi, 100 F Street NE, Washington, DC 20549, or by sending an email to: PRA_Mailbox@sec.gov.

Dated: August 9, 2024.
Vanessa A. Countryman,
Secretary.

[FR Doc. 2024-18171 Filed 8-13-24; 8:45 am]

BILLING CODE 8011-01-P